DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of April 12, 2010 through April 23, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-72,497: Utah Stamping Company, Leased Workers from SOS and ESSI-LUMEA, Clearfield, UT: October 5, 2008.

TA-W-72,506: GHT-Craft Steel LLC, Grand Rapids, MI: October 5, 2008.

TA-W-72,590: Taminco Higher Amines, Inc., Including Leased Workers From Orbital Technical Solutions, URS, etc., Riverview, MI: October 13, 2008.

TA-W-72,618: Baker Furniture, Highpoint, NC: October 16, 2008.

TA-W-72,759: Donsco, Inc., Belleville, PA: November 3, 2008.

TA-W-72,856: Deco Products Company, LLP, Decorah, IA: November 13, 2008.

TA-W-72,865: Valenite, LLC, Leased Workers From Snelling Staffing Services & The Creative Group, Madison Heights, MI: November 16, 2008.

TA-W-72,935: T-Shirt International, Inc., Leased Workers from Express Professional Services, Culloden, WV: November 18, 2008.

TA-W-73,069: Allen Edmonds Shoe Corporation, Lewiston, ME: December 8, 2008.

TA-W-73,164: General Motors Corporation, Renaissance Center, Leased Workers From Accretive Solutions, etc., Detroit MI: December 18, 2008.

TA-W-73,306: Lynn Ladder and Scaffolding Co., Inc., Orwigsburg, PA: January 6, 2009.

TA-W-73,338: American General, Life Brokerage, American International Group, Leased Workers from Adecco, Milwaukee, WI: January 20, 2009.

TA-W-73,357: Hutchinson Technology, Inc., Disk Drive Components, Eau Claire, WI: January 14, 2009.

TA-W-73,446: Genesis Networks Solutions, Inc., Abilene, TX: February 3, 2009.

The following certifications have been issued. The requirements of Section 222(a)(2)(B) (shift in production or services) of the Trade Act have been met.

TA-W-71,043: Philip Morris USA, Altria Group, Cabarrus Manufacturing Plant, Concord, NC: May 29, 2008.

TA-W-71,845: Lattice Semiconductor Corporation, Leased Workers from Robert Half International, Express Personnel, Hillsboro, OR: July 28, 2008.

TA-W-72,170: Learjet, Inc., Wichita Division, Leased Workers from Aerotek, Atsi, Cantec etc., Wichita, KS: August 26, 2008.

TA-W-72,329: Sabritec, Leased Workers from Mattson Resources, Volt Temporary Services, Irvine, CA: September 15, 2008.

TA-W-72,354: Fair Isaac Corporation, Helpdesk and PC Support, San Rafael, CA: September 14, 2008.

TA-W-72,556: Sonus Networks, Inc., Quality Assurance Group, The System Verification Testing Group, Westford, MA: October 5, 2008.

TA-W-72,704A: Starwood Hotels & Resorts Worldwide, Corporate IT Division, Leased Workers from Computer Merchant, LTD, Austin, TX: September 30, 2008.

TA-W-72,704B: Starwood Hotels & Resorts Worldwide, Corporate IT Division, Leased Workers from Computer Merchant, LTD, White Plains, NY: September 30, 2008.

TA-W-72,704C: Starwood Hotels & Resorts Worldwide, Corporate IT Division, Leased Workers from Computer Merchant, LTD, Phoenix, AZ: September 30, 2008.

TA-W-72,704: Starwood Hotels & Resorts Worldwide, Corporate IT Division, Leased Workers from Computer Merchant, LTD, Braintree, MA: September 30, 2008.

TA-W-72,757: Intermet U.S. Holding, dba Intermet, New River Foundry, Radford, VA: October 28, 2008.

TA-W-73,022: Autodesk, Inc., Platform Solutions and Emerging Business Division, San Rafael, CA: November 24, 2008.

TA-W-73,036A: Tracksure Insurance Agency, Inc., Assurant, Inc., Hazard Insurance Processing, Tustin, CA: December 4, 2008.

TA-W-73,036: Tracksure Insurance Agency, Inc., Assurant, Inc., Hazard Insurance Processing, Santa Ana, CA: December 4, 2008.

TA-W-73,107: Infrasoft International, LLC, State College, PA: December 15, 2008.

TA-W-73,125: Baker Hughes Oilfield Operation, Inc., Enterprise Finance Organization, Leased Workers of Kelly Services, Houston, TX: December 16, 2008.

TA-W-73,133: CVG-Mayflower Vehicle Systems LLC, Norwalk, OH: December 17, 2008.

TA-W-73,146: IBM, Global Business Services Division, Application Management Services Business, Charleston, WV: December 21, 2008.

TA-W-73,149: Ashland, Inc., Ashland Hercules Water Technology, Kearny, NJ: December 18, 2008.

TA-W-73,150: Hyatt Corporation as an Agent for Manchester Resorts, LP, Account Department, San Diego, CA: December 17, 2008.

TA-W-73,174: EMD Chemicals Inc., Leased Workers from Ajilen, Ranstad, Assigend Counsel and Emerson Personnel, Gibbstown, NJ: December 21, 2008.

TA-W-73,189: Lear Corporation, Loma Verde El Paso Distribution Center, Leased Workers from Manpower and Kelly, El Paso, TX: December 18, 2008.

TA-W-73,197: Rexam Consumer Plastics, Leased Workers From CBS Personnel Services, S&S Staffing, etc., Holden, MA: December 29, 2008.

TA-W-73,270: Atmel Corporation, Finance Group, Leased Workers from Volt Accountabilities, Colorado Springs, CO: January 8, 2009.

TA-W-73,278A: Maersk Agency USA, Inc., North America Information Systems, Leased Workers IBM, Consonus, and Sarcom, Charlotte, NC: January 12, 2009.

TA-W-73,278B: Maersk Agency USA, Inc., North America Information Systems, A.P. Moller-Maersk A/S, Carney, MD: January 12, 2009.

TA-W-73,278: Maersk Agency USA, Inc., North America Information Systems, Leased Workers GMM Enterprises, LLC, ICS, Madison, NJ: January 12, 2009.

TA-W-73,316: Yale Sportswear Corporation, Federalsburg, MD: January 10, 2009.

TA-W-73,320: Rio Tinto Services, Inc., Salt Lake City Rio Tinto Regional Center, Leased Workers from Prince Perelson, South Jordan, UT: December 28, 2008.

TA-W-73,322: Hartford Financial Services Group, Inc., Claims Department/Auto Commercial Liability, Phoenix, AZ: January 15, 2009.

TA-W-73,341: WestPoint Home, Inc., Biddeford, ME: January 22, 2009.

TA-W-73,343: Convergys, International Management Group, Lake Mary, FL: January 19, 2009.

TA-W-73,397: Remy, Inc., Meridian, MS: February 1, 2009.

TA-W-73,420A: Alticor, Inc., Including Access Business Group International LLC, Amway, Ada, MI: February 1, 2009.

TA-W-73,420: Alticor, Inc., Including Access Business Group International LLC, Amway, Buena Park, CA: February 1, 2009.

TA-W-73,489: Sonoco Products Company, Orrville, OH: February 2, 2009.

TA-W-73,543: Bumble Bee Foods, LLC, Including Leased Workers of Labor Ready, Prospect Harbor, ME: February 22, 2009.

TA-W-73,663: Appleton Papers, Inc., Finance and Information Technology Divisions, Appleton, WI: March 8, 2009.

TA-W-73,667: Saint-Gobain Performance Plastics, Polymer Products Div., Leased Workers from Dimension Staffing, Monroe Staffing, Bristol, RI: April 24, 2010.

TA-W-73,808: Maersk Agency USA, Inc., Maersk, Inc., A.P. Moller-Maersk A/S, Madison, NJ: January 12, 2009.

The following certifications have been issued. The requirements of Section 222(c) (supplier to a firm whose workers are certified eligible to apply for TAA) of the Trade Act have been met.

TA-W-71,374: GMPT Warren Transmission, GM Powertrain Division, General Motors Company, Warren, MI: June 16, 2008.

TA-W-71,470: Unifi, Inc., Plant #3, Nylon Division, Madison, NC: June 29, 2008.

TA-W-71,923: Decker Logging, Inc., Libby, MT: July 19, 2008.

TA-W-72,125: Manitowoc Cranes, Inc., Port Washington Division, Port Washington, WI: August 25, 2008.

TA-W-72,470: McKenzie Foam And Supply, Inc., McKenzie, TN: September 30, 2008.

TA-W-72,548: AGC Flat Glass North America, Inc., dba AGC Glass Co. North America, Leased Workers from Express Employment, Elizabethtown, KY: October 7, 2008.

TA-W-72,639: Faurecia, Faurecia Seating, Seating Div. Leased Workers from Harvard Resources Group, Shelby Township, MI: October 20, 2008.

TA-W-72,646: Michigan Mechanical Services, Inc., Taylor, MI: October 21, 2008.

TA-W-72,707: Air-Way Manufacturing Co., Leased Workers from Pro Resources, Hamilton, IN: October 23, 2008.

TA-W-72,844: Paramount Precision Products, Inc., Leased Workers from Aerotek Commercial Staffing, Oak Park, MI: November 6, 2008.

TA-W-73,028: TRW Automotive, Body Control Systems North America Division, Galesville, WI: October 11, 2008.

TA-W-73,041: Pilkington North America, Inc., Lathrop, CA: December 2, 2008.

TA-W-73,057: Lamjen, Inc., A Subsidiary of Custom Engineering, Erie, PA: December 7, 2008.

TA-W-73,253: Injex Industries, Inc., Leased Workers from the Solutions Group, Hayward, CA: January 12, 2009.

TA-W-73,262: Vuteq California Corporation, Leased Workers from Staffchex and Randstad, Hayward, CA: January 12, 2009.

TA-W-73,333: Aegis Communications Group, Inc., ACZ and ACY Group, Elkins, WV: January 21, 2009.

TA-W-73,497: Aisin Manufacturing California, LLC, Including Leased Workers of Premier Staffing, Stockton, CA: February 8, 2009.

TA-W-73,660: Rebuilt, LLC, Previously Known as ILevel by Weyerhaeuser, Commercial Sales Division, Boise, ID: March 8, 2009.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-71,047: UAW-Chrysler National Training Center, Detroit, MI.

TA-W-71,235: Vairex Corporation, A Subsidiary of Vairex International LTD., Boulder, CO.

TA-W-71,367: Siegwerk USA Company, On-Site Workers at Graphics Packaging, Lawrenceburg, TN.

TA-W-73,232: R.L. Torresdal Company, Inc., Ossian, IA.

The investigation revealed that the criteria under paragraphs (a)(2)(A)(i) (decline in sales or production, or both) and (a)(2)(B) (shift in production or services to a foreign country) of section 222 have not been met.

TA-W-73,000: Ayrshire Electronics of Mississippi, LLC, CDR Manufacturing, Inc., Corinth, MS.

The investigation revealed that the criteria under paragraphs (a)(2)(A) (increased imports) and (a)(2)(B) (shift in production or services to a foreign country) of section 222 have not been met.

TA-W-71,017: Diversified Textile Machinery Corporation, Kings Mountain, NC.

TA-W-71,083: Montana Renewable Resources, LLP, Eureka, MT.

TA-W-71,307: Clear Lake Lumber, Inc., Spartanburg, PA.

TA-W-71,335: Suburban Precision Mold Company, Inc., Meadville, PA.

TA-W-71,379: General Motors Company, formerly known as General Motors Corporation, Wentzville Assembly Center, Wentzville, MO.

TA-W-71,394: Cascade Structural Laminators, Willamina, OR.

TA-W-71,434: Eramet Marietta, Inc., Special Products Division, Marietta, OH.

TA-W-71,456: Knight Celotex, Sunbury, PA.

TA-W-71,494: Johns Manville, Engineered Products Division, Spartanburg, SC.

TA-W-71,607: Wisconsin Mechanical, LLC, Waukesha, WI.

TA-W-71,750: E.I. DuPont, Electronic Technologies Division, Circleville, OH.

TA-W-71,817: Clark Equipment Company, Bobcat Company Division, Gwinner, ND.

TA-W-71,868: Hamilton Sundstrand, Sundyne Electromagnetics, United Technologies, Leased Workers from Aerotek, Pleasant Prairie, WI.

TA-W-71,936: Seaboard Folding Box Company, LLC, CJ Fox Division, Providence, RI.

TA-W-71,953: Vanguard National Trailer Corporation, Monon, IN.

TA-W-71,976: Powerboss, Inc., Minuteman International, Aberdeen, NC.

TA-W-72,152: Marvel Industries, Northland Corporation, Richmond, IN.

TA-W-72,220: Ecolab, Leased Workers from Spherion, Hebron, OH.

TA-W-72,247: National Briquetting Corporation, Harsco, also s Performix East Chicago, East Chicago, IN.

TA-W-72,554: General Motors Company, Pontiac Assembly, Pontiac, MI.

TA-W-72,903: Ford Motor Company, Walton Hills Stamping Plant, Division Stamping Business Unit of Ford Motor, Walton Hills, OH.

TA-W-72,957: Hoffco-Comet Industries, Richmond, IN.

TA-W-72,999: Shain Solutions, Diversified Woodcrafts, Inc., Philipsburg, PA.

TA-W-70,941: Performance Powder Coating, LLC, Kokomo, IN.

TA-W-71,372: Starcom MediaVest Group, Detroit, MI.

TA-W-71,483A: Continental Airlines, Inc., Reservations Division—Tampa, Tampa, FL.

TA-W-71,483B: Continental Airlines, Inc., Reservations Division—Salt Lake City, Salt Lake City, UT.

TA-W-71,483: Continental Airlines, Inc., Reservations Division, Houston, TX.

TA-W-71,653: Minnesota Industries, Chisholm, MN.

TA-W-71,667: Fort Smith Express, Inc., Fort Smith, AR.

TA-W-71,789: Lyon Workspace Products, LLC, L&D Group, Inc., Leased Workers from Paige Personnel, Montgomery, IL.

TA-W-71,995: Honeywell Technology Solutions, Inc., Honeywell International, Inc., Piketon, OH.

TA-W-72,145: HSBC Finance Corporation, A Subsidiary of HSBC North America Holdings, Inc., Dubois, PA.

TA-W-72,203: Georgino Industrial Supply, Penfield, PA.

TA-W-72,680: Goodwill Printing Company, Ferndale, MI.

TA-W-72,950: Pittsburgh Coatings, Inc., Ambridge, PA.

TA-W-73,088A: Emerson Process Management, Rosemount Division, Database and Purchasing Groups, Chanhassen, MN.

TA-W-73,088: Emerson Process Management, Rosemount Division, Database and Purchasing Groups, Eden Prairie, MN.

TA-W-73,114: Maddox Drilling, San Angelo, TX.

TA-W-73,367: Caliber Auto Transfer of Ohio, Inc., Fostoria, OH.

The investigation revealed that criteria of Section 222(c)(2) have not been met. The workers' firm (or subdivision) is not a Supplier to or a Downstream Producer for a firm whose workers were certified as eligible to apply for TAA.

TA-W-70,949A: Chrysler LLC, Mopar Parts Distribution Center, Naperville, IL.

TA-W-70,949B: Chrysler LLC, Mopar Parts Distribution Center, New Boston, MI.

TA-W-70,949C: Chrysler LLC, Mopar Parts Distribution Center, Beaverton, OR.

TA-W-70,949D: Chrysler LLC, Mopar Parts Distribution Center, Carrollton, TX.

TA-W-70,949E: Chrysler LLC, Mopar Parts Distribution Center, Fontana, CA.

TA-W-70,949F: Chrysler LLC, Mopar Parts Distribution Center, Lathrop, CA.

TA-W-70,949G: Chrysler LLC, Mopar Parts Distribution Center, Denver, CO.

TA-W-70,949H: Chrysler LLC, Mopar Parts Distribution Center, Ontario, CA.

TA-W-70,949I: Chrysler LLC, Mopar Parts Distribution Center, Hazelwood, MO.

TA-W-70,949J: Chrysler LLC, Mopar Parts Distribution Center, Morrow, GA.

TA-W-70,949K: Chrysler LLC, Mopar Parts Distribution Center, Memphis, TN.

TA-W-70,949L: Chrysler LLC, Mopar Parts Distribution Center, Tappan, NY.

TA-W-70,949M: Chrysler LLC, Mopar Parts Distribution Center, Mansfield, MA.

TA-W-70,949N: Chrysler LLC, Mopar Parts Distribution Center, Plymouth, MN.

TA-W-70,949O: Chrysler LLC, Mopar Parts Distribution Center, Streetsboro, OH.

TA-W-70,949P: Chrysler LLC, Mopar Parts Distribution Center, Orlando, FL.

TA-W-70,949Q: Chrysler LLC, Mopar Parts Distribution Center, Milwaukee, WI.

TA-W-70,949R: Chrysler LLC, Mopar Parts Distribution Center, Warren, MI.

TA-W-70,949S: Chrysler LLC, Mopar Parts Distribution Center, Marysville, MI.

TA-W-70,949: Chrysler LLC, Mopar Parts Distribution Center, Center Line, MI.

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-71,562: Magneti Marelli Powertrain USA, LLC, Sanford, NC.

TA-W-71,734A: Morris Yachts, Inc., Trenton, ME.

TA-W-71,734: Morris Yachts, Inc., Bass Harbor, ME.

TA-W-73,287: HP Enterprise Services, Formerly Known As EDS/HP, Fort Worth, TX.

TA-W-73,304: Suntron Corporation, Newberg, OR.

TA-W-73,337: Vector CANtech, Novi, MI.

TA-W-73,340: Carestream Health, Inc., Sensitizing Department, Windsor, CO.

TA-W-73,387: CC Forbes, Big Lake, TX.

TA-W-73,442: International Business Machines Corporation, IT Support 7—IBM, Boulder, CO.

TA-W-73,452: Safmarine, Inc., Madison, NJ.

TA-W-73,474: Managed Business Solutions, Santa Rosa, CA.

TA-W-73,571: Halliburton, Duncan, OK.

TA-W-73,744: Sony Ericsson, USA, Research Triangle Park, NC.

TA-W-73,834: William B. Altman, Inc., Fenelton, PA.

TA-W-73,839: Duthler Ford Truck, Inc., Wyoming, MI.

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W-72,895: Clark Construction, El Dorado, TX.

TA-W-73,300: Wood-Mode, Kreamer, PA.

The following determinations terminating investigations were issued because the petitioning groups of workers are covered by active certifications. Consequently, further investigation in these cases would serve no purpose since the petitioning group of workers cannot be covered by more than one certification at a time.

TA-W-71,317: Product Action, Toledo, OH.

TA-W-73,749: Assembly and Test Worldwide, Inc., Shelton, CT.

I hereby certify that the aforementioned determinations were issued during the period of April 12, 2010 through April 23, 2010. Copies of these determinations may be requested under the Freedom of Information Act. Requests may be submitted by fax, courier services, or mail to FOIA Disclosure Officer, Office of Trade Adjustment Assistance (ETA), U.S. Department of Labor, 200 Constitution Avenue, NW., Washington, DC 20210 or to foiarequest@dol.gov. These determinations also are available on the Department's Web site at http://www.doleta.gov/tradeact under the searchable listing of determinations.

Dated: May 13, 2010.
Del Min Amy Chen,
Certifying Officer, Division of Trade Adjustment Assistance.

[FR Doc. 2010-12110 Filed 5-19-10; 8:45 am]

BILLING CODE 4510-FN-P